DEPARTMENT OF THE INTERIOR

Bureau of Land Management

Colorado: Filing of Plats of Survey

February 9, 2005.

SUMMARY: The plats of survey of the following described land will be officially filed in the Colorado State Office, Bureau of Land Management, Lakewood, Colorado, effective 10 a.m., February 10, 2005. All inquiries should be sent to the Colorado State Office, Bureau of Land Management, 2850 Youngfield Street, Lakewood, Colorado 80215-7093.

The field notes of the remonumentation of certain corners in Township 2 North, Range 43 West, Sixth Principal Meridian, Group 750, Colorado, was accepted October 18, 2004.

The Plat, representing the dependent resurveys and surveys in section 34, Township 36 North, Range 7 West, New Mexico Principal Meridian, Group 1401, Colorado, was accepted October 20, 2004.

The plat (in 2 sheets), of the entire record, representing the dependent resurvey and survey, in Township 22 South, Range 71 West, Sixth Principal Meridian, Group 1275, Colorado, was accepted November 5, 2004.

The Plat, representing the dependent resurveys and surveys in Township 2 South, Range 80 West, Sixth Principal Meridian, Group 1402, Colorado, was accepted November 15, 2004.

The Plat, representing the dependent resurveys and surveys in Township 1 North, Range 80 West, Sixth Principal Meridian, Group 1402, Colorado, was accepted November 15, 2004.

The Plat, representing the dependent resurvey in Township 8 South, Range 76 West, Sixth Principal Meridian, Group 1409, Colorado, was accepted December 9, 2004.

The Supplemental Plat, creating new lots 86 and 87, in section 30, Township 1 North, Range 71 West, Sixth Principal Meridian, Colorado, was accepted December 27, 2004.

These plats and remonumentation notes were requested by the Bureau of Land Management for administrative and management purposes.

The Supplemental Plat, creating lot 1 in section 30, Township 3 South, Range 74 West, Sixth Principal Meridian, Colorado, was accepted November 30, 2004.

The Plat (in 6 sheets), representing the segregation of mineral surveys in section 30, Township 1 North, Range 71 West, Sixth Principal Meridian, Group 1008, Colorado, was accepted December 21, 2004.

These plats were requested by the U. S. Forest Service, to facilitate a land exchange, and for administrative and management purposes.

Randall M. Zanon,
Chief Cadastral Surveyor for Colorado.

[FR Doc. 05-3149 Filed 2-17-05; 8:45 am]

BILLING CODE 4310-JB-P